DEPARTMENT OF LABOR

Employment and Training Administration

Proposed Collection of Information for an Evaluation of the Young Parents Demonstration Project (YPDP); Comment Request

AGENCY: Employment and Training Administration (ETA), Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA) [44 U.S.C. 3505(c)(2)(A)]. The program helps to ensure that requested data can be provided in the desired format, reporting burden (time and financial resources) is minimized, collection instruments are clearly understood, and the impact of the collection requirements on respondents can be properly assessed.

The proposed information collection is for an evaluation of the YPDP. The YPDP is sponsored by ETA to test innovative strategies that can improve the skills and education of young parents and, ultimately their employment and earnings.

DATES: Written comments must be submitted to the office listed in the addressee's section below on or before May 16, 2011.

ADDRESSES: A copy of this proposed information collection request may be obtained by contacting Savi Swick at 202-693-3382 (this is not a toll-free number) or e-mail: swick.savi@dol.gov. Comments are to be submitted to Department of Labor/Employment and Training Administration, Attn: Savi Swick, 200 Constitution Avenue, NW., (Room N-5641) Washington, DC 20210). Written comments may be transmitted by facsimile to 202-693-2766 (this is not a toll-free number) or e-mailed to swick.savi@dol.gov.

SUPPLEMENTARY INFORMATION:

I. Background

The proposed information collection is for an evaluation of the YPDP. The YPDP is sponsored by ETA to test innovative strategies that can improve the skills and education of young parents and, ultimately their employment and earnings.

The YPDP grantees are required to develop a “bump-up” intervention providing an additional level of services above and beyond the existing services currently provided that are specifically intended to increase an individual's education, job training and employment. A key factor in the bump-up design is having a single, persistent intervention for the treatment group that is substantially different from what the control group receives. Each of the grantees is implementing one of the following two bump-up interventions:

• Mentoring Models—Intensive professional staff mentoring specifically for education, employment, and training; and specifically for pregnant and parenting teens and young parents; or

• Employment/Education/Training Models—Guided employment, education, training and related supports specifically for pregnant and parenting teens and young parents.¹

¹ U.S. Department of Labor, Employment and Training Administration, “Young Parents Demonstration Program (YPDP) SGA/DFA PY 08-08,” Federal Register, Vol. 73, No. 193, October 3, 2008 (available over the Internet at: http://edocket.access.gpo.gov/2008/pdf/E8-23319.pdf). This notice also provides additional background on the demonstration effort, grant requirements, and the structure of the “bump-up” interventions to be offered by YPDP grantees.

Individuals enrolling in YPDP have a 50/50 chance of receiving this additional level of services. Those individuals not receiving the bump up services receive the existing services offered by the grantee. To evaluate the YPDP bump-up interventions, education, employment, and other outcomes of the two groups will be compared over time. The evaluation will estimate the success in providing educational and occupational skills training that fosters family economic self-sufficiency to young parents (both mothers and fathers) and expectant parents ages 16-24.

II. Desired Focus of Comments

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions

This proposed information collection will involve (1) collecting participant data from organizations that received grants under the YPDP; (2) conducting semi-structured interviews with key administrators and staff in the demonstration projects to document the structure and implementation of the demonstration intervention; and (3) conducting a follow-up survey of YPDP participants.

Agency: Employment and Training Administration.

Type of Review: New Collection.

Title of Collection: The Evaluation Of The Young Parents Demonstration.

OMB Control Number: 1205-0NEW.

Affected Public: Young parents, community-based organizations.

Estimated Number of Respondents: 9,176.

Frequency: Once per application during site visit interviews and follow-up surveys, six times during Participant Tracking System data collection.

Total Estimated Annual Responses: 6,711.

Estimated Average Time per Response: 38 minutes.

Estimated Total Annual Burden Hours: 5,854.

Total Estimated Annual Cost Burden (excluding hour costs): $110,195.

Data collection activity | Number of respondents | Total burden hours | Average hourly wage | Total annualized cost
PTS—Data Collection | 4,102 | 4,102 | $18.76 | $76,954
Site Visit Interviews | 144 | 108 | 22.21 | 2,399
12-Month Survey | 2,465 | 822 | 18.76 | 15,421
30-Month Survey | 2,465 | 822 | 18.76 | 15,421
Total | 9,176 | 5,854 |  | 110,195

Comments submitted in response to this notice will be summarized and may be included in the request for Office of Management and Budget approval of the final information collection request. The comments will become a matter of public record.

Dated: March 9, 2011.
Jane Oates,
Assistant Secretary, Employment and Training Administration.

[FR Doc. 2011-6010 Filed 3-14-11; 8:45 am]

BILLING CODE 4510-FN-P